FEDERAL MARITIME COMMISSION

[Docket No. 03-13]

BAX Global Inc. v. Lykes Lines Limited, LLC.; Notice of Filing of Complaint and Assignment

Notice is given that a complaint has been filed with the Federal Maritime Commission (“Commission”) by BAX Global Inc. (“Complainant”) against Lykes Lines Limited, LLC (“Respondent”). Complainant contends that Respondent violated sections 10(b)(2)(A), 10(b)(4)(A), 10(b)(4)(E), and 10(d)(1) of the Shipping Act, 46 U.S.C. app. 1709, by: not providing service in accordance with its published tariff; engaging in unfair or unjustly discriminatory practices concerning rates or charges, and adjustment and settlement of claims; and failing to establish, observe and enforce just and reasonable regulations and practices. Specifically, Complainant alleges that Respondent violated the Shipping Act by collecting and refusing to refund demurrage charges that accrued while Complainant's cargo was detained by the U.S. Customs Service through no fault of the Complainant. Complainant requests that a hearing in this matter take place at the Complainant's Irvine, CA offices, and seeks an order finding Respondent to have violated the sections cited above and such other and further order(s) as the Commission determines to be proper, and awarding reparations for the unlawful conduct in the amount of $98,885 plus interest, attorney fees or such other sum at the Commission may determine to be proper.

This proceeding has been assigned to the Office of Administrative Law Judges. Hearing in this manner, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by November 15, 2004 and the final decision of the Commission shall be issued by March 15, 2005.

Bryant L. VanBrakle,
Secretary.

[FR Doc. 03-28951 Filed 11-19-03; 8:45 am]

BILLING CODE 6730-01-M